DEPARTMENT OF TRANSPORTATION

National Highway Traffic Safety Administration

[Docket No. NHTSA-2002-11878; Notice 2]

Decision That Nonconforming 2001 and 2002 Porsche GT2 Passenger Cars Are Eligible for Importation

AGENCY: National Highway Traffic Safety Administration (NHTSA), DOT.

ACTION: Notice of decision by NHTSA that nonconforming 2001 and 2002 Porsche GT2 passenger cars are eligible for importation.

SUMMARY: This notice announces the decision by NHTSA that 2001 and 2002 Porsche GT2 passenger cars not originally manufactured to comply with all applicable Federal motor vehicle safety standards (FMVSS) are eligible for importation into the United States. The 2001 Porsche GT2 is eligible for importation because it has safety features that comply with, or are capable of being altered to comply all applicable FMVSS. The 2002 Porsche GT2 is eligible for importation because it is substantially similar to a vehicle originally manufactured for importation into and sale in the United States and certified by its manufacturer as complying with the safety standards (the U.S. certified version of the 2002 Porsche GT2), and it is capable of being readily altered to conform to the standards.

DATES: This decision is effective as of the date of its publication in the Federal Register.

FOR FURTHER INFORMATION CONTACT: Marilynne Jacobs, Office of Vehicle Safety Compliance, NHTSA (202-366-2832).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS.

Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Northern California Diagnostic Laboratories, Inc. of Napa, California (“NCDL”) (Registered Importer 92-011) petitioned NHTSA to decide whether 2002 Porsche GT2 passenger cars are eligible for importation into the United States. Shortly after NCDL's petition was filed, J.K. Technologies, L.L.C. of Baltimore, Maryland (“J.K.”) (Registered Importer 90-006) separately petitioned NHTSA to decide whether 2001 and 2002 Porsche GT2 passenger cars are eligible for importation. NHTSA published notice of these petitions on April 9, 2002 (67 FR 17115) to afford an opportunity for public comment. The reader is referred to that notice for a thorough description of the petitions.

One comment was received in response to the notice of the petitions. This was from Porsche Cars North America, Inc. (“Porsche”), the U.S. representative of Porsche AG, the vehicles' manufacturer. In its comment, Porsche stated that it did not manufacture and certify for importation into and sale in the United States any model year 2001 Porsche 911 GT2 passenger car. Porsche stated that J.K. may have confused the 2001 Porsche 911 GT2 with the 2001 Porsche 911 Turbo, which it did offer for sale in the United States. Porsche contended that there are substantial differences between the non-U.S. certified 2001 Porsche 911 GT2 and the U.S. certified 2001 Porche 911 Turbo that preclude those vehicles from being found to be substantially similar. Porsche submitted no comments regarding the 2002 Porsche GT2.

From its review of the information submitted by the petitioners, the agency has concluded that the 2002 Porsche GT2 is eligible for importation under 49 U.S.C. 30141(a)(1)(A) based on its substantial similarity to the U.S.-certified model and its capability of being readily altered to conform to the standards.

With regard to the 2001 model, NHTSA has considered Porsche's comments and confirmed that it did not certify a 2001 Porsche GT2 for importation into and sale in the United States. However, the factory-issued sales literature for the German versions of the 2001 and 2002 Porsche GT2 (“Der 911 GT2” Catalog Nos. WVK 178 410 D/WW 11/00 and WVK 202 310 02 D/WW 8/01) show that those vehicles have identical mechanical and dimensional specifications. In light of this circumstance, the agency has decided to grant import eligibility to the 2001 Porsche GT2 even though there is no U.S.-certified version of that vehicle. The agency is making this decision under 49 U.S.C. 30141(a)(1)(B), which, as previously noted, permits a nonconforming motor vehicle to be admitted into the United States if its safety features comply with, or are capable of being altered to comply with, all applicable FMVSS based on destructive test or such other evidence as NHTSA decides to be adequate. In this instance, the factory-issued sales literature, which reveals the German 2001 Porsche GT2 to be identical in mechanical and dimensional specifications to the German 2002 Porsche GT2, provides adequate evidence that the 2001 model is capable of being altered to comply with the FMVSS, when coupled with the fact that there is a U.S.-certified counterpart for the 2002 model, and the agency's finding that the non-U.S. certified 2002 model is capable of being readily altered to conform to the FMVSS.

Vehicle Eligibility Number for Subject Vehicles

The importer of a vehicle admissible under any final decision must indicate on the form HS-7 accompanying entry the appropriate vehicle eligibility number indicating that the vehicle is eligible for entry. VCP-20 is the vehicle eligibility number assigned to 2001 Porsche GT2 passenger cars and VSP-388 is the vehicle eligibility number assigned to 2002 Porsche GT2 passenger cars admissible under this notice of final decision.

Final Decision

Accordingly, on the basis of the foregoing, NHTSA hereby decides that 2001 Porsche GT2 passenger cars that were not originally manufactured to comply with all applicable Federal motor vehicle safety standards are eligible for importation into the United States because they have safety features that comply with, or are capable of being altered to comply with, all applicable Federal motor vehicle safety standards. In addition, the agency decides that 2002 Porsche GT2 passenger cars that were not originally manufactured to comply with all applicable Federal motor vehicle safety standards are eligible for importation into the United States because they are substantially similar to 2002 Porsche GT2 passenger cars originally manufactured for sale in the United States and certified under 49 U.S.C. 30115, and are capable of being readily altered to conform to all applicable Federal motor vehicle safety standards.

Authority: 49 U.S.C. 30141(a)(1)(A), (a)(1)(B), and (b)(1); 49 CFR 593.8; delegations of authority at 49 CFR 1.50 and 501.8.

Issued on: September 5, 2002.
Marilynne Jacobs,
Director, Office of Vehicle Safety Compliance.

[FR Doc. 02-22949 Filed 9-9-02; 8:45 am]

BILLING CODE 4910-59-P